DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more aircraft that have been placed on OFAC's Specially Designated Nationals and Blocked Persons List based on OFAC's determination that one or more applicable legal criteria were satisfied. All property and interests in property subject to U.S. jurisdiction of these vessels are blocked, and U.S. persons are generally prohibited from engaging in transactions with them.

DATES: See Supplementary Information section for effective date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On January 21, 2020, OFAC determined that the following aircraft subject to U.S. jurisdiction are blocked under the relevant sanctions authorities listed below.

Aircraft

1. YV1118; Aircraft Model Learjet 45; Aircraft Manufacturer's Serial Number (MSN) 45-396; Aircraft Tail Number YV1118 (aircraft) [VENEZUELA-EO13884].

Identified pursuant to Executive Order 13884, “Blocking Property of the Government of Venezuela,” 84 FR 38843 (“E.O. 13884”) as property in which the Government of Venezuela, an entity whose property and interests in property are blocked pursuant to E.O. 13884, has an interest.

2. YV2040; Aircraft Model Falcon 900B; Aircraft Manufacturer's Serial Number (MSN) 133; Aircraft Tail Number YV2040 (aircraft) [VENEZUELA-EO13884].

Identified pursuant to E.O. 13884 as property in which the Government of Venezuela, an entity whose property and interests in property are blocked pursuant to E.O. 13884, has an interest.

3. YV2485; Aircraft Model Falcon 900EX; Aircraft Manufacturer's Serial Number (MSN) 196; Aircraft Tail Number YV2485 (aircraft) [VENEZUELA-EO13884].

Identified pursuant to E.O. 13884 as property in which the Government of Venezuela, an entity whose property and interests in property are blocked pursuant to E.O. 13884, has an interest.

4. YV2486; Aircraft Model Falcon 900EX; Aircraft Manufacturer's Serial Number (MSN) 197; Aircraft Tail Number YV2486 (aircraft) [VENEZUELA-EO13884].

Identified pursuant to E.O. 13884 as property in which the Government of Venezuela, an entity whose property and interests in property are blocked pursuant to E.O. 13884, has an interest.

5. YV2565; Aircraft Model Learjet 45; Aircraft Manufacturer's Serial Number (MSN) 45-389; Aircraft Tail Number YV2565 (aircraft) [VENEZUELA-EO13884].

Identified pursuant to E.O. 13884 as property in which the Government of Venezuela, an entity whose property and interests in property are blocked pursuant to E.O. 13884, has an interest.

6. YV2567; Aircraft Model Learjet 45; Aircraft Manufacturer's Serial Number (MSN) 45-390; Aircraft Tail Number YV2567 (aircraft) [VENEZUELA-EO13884].

Identified pursuant to E.O. 13884 as property in which the Government of Venezuela, an entity whose property and interests in property are blocked pursuant to E.O. 13884, has an interest.

7. YV2716; Aircraft Model Learjet 45; Aircraft Manufacturer's Serial Number (MSN) 45-415; Aircraft Tail Number YV2716 (aircraft) [VENEZUELA-EO13884].

Identified pursuant to E.O. 13884 as property in which the Government of Venezuela, an entity whose property and interests in property are blocked pursuant to E.O. 13884, has an interest.

8. YV2726; Aircraft Model Falcon 900; Aircraft Manufacturer's Serial Number (MSN) 136; Aircraft Tail Number YV2726 (aircraft) [VENEZUELA-EO13884].

Identified pursuant to E.O. 13884 as property in which the Government of Venezuela, an entity whose property and interests in property are blocked pursuant to E.O. 13884, has an interest.

9. YV2734; Aircraft Model Learjet 45; Aircraft Manufacturer's Serial Number (MSN) 45-407; Aircraft Tail Number YV2734 (aircraft) [VENEZUELA-EO13884].

Identified pursuant to E.O. 13884 as property in which the Government of Venezuela, an entity whose property and interests in property are blocked pursuant to E.O. 13884, has an interest.

10. YV2738; Aircraft Model Learjet 45; Aircraft Manufacturer's Serial Number (MSN) 45-424; Aircraft Tail Number YV2738 (aircraft) [VENEZUELA-EO13884].

Identified pursuant to E.O. 13884 as property in which the Government of Venezuela, an entity whose property and interests in property are blocked pursuant to E.O. 13884, has an interest.

11. YV2739; Aircraft Model Learjet 45; Aircraft Manufacturer's Serial Number (MSN) 45-425; Aircraft Tail Number YV2739 (aircraft) [VENEZUELA-EO13884].

Identified pursuant to E.O. 13884 as property in which the Government of Venezuela, an entity whose property and interests in property are blocked pursuant to E.O. 13884, has an interest.

12. YV2762; Aircraft Model 1900D; Aircraft Manufacturer's Serial Number (MSN) UE-275; Aircraft Tail Number YV2762 (aircraft) [VENEZUELA-EO13884].

Identified pursuant to E.O. 13884 as property in which the Government of Venezuela, an entity whose property and interests in property are blocked pursuant to E.O. 13884, has an interest.

13. YV2763; Aircraft Model 1900D; Aircraft Manufacturer's Serial Number (MSN) UE-236; Aircraft Tail Number YV2763 (aircraft) [VENEZUELA-EO13884].

Identified pursuant to E.O. 13884 as property in which the Government of Venezuela, an entity whose property and interests in property are blocked pursuant to E.O. 13884, has an interest.

14. YV2869; Aircraft Model 1900D; Aircraft Manufacturer's Serial Number (MSN) UE-352; Aircraft Tail Number YV2869 (aircraft) [VENEZUELA-EO13884].

Identified pursuant to E.O. 13884 as property in which the Government of Venezuela, an entity whose property and interests in property are blocked pursuant to E.O. 13884, has an interest.

15. YV3360; Aircraft Model Falcon 200EX; Aircraft Manufacturer's Serial Number (MSN) 17; Aircraft Tail Number YV3360 (aircraft) [VENEZUELA-EO13884].

Identified pursuant to E.O. 13884 as property in which the Government of Venezuela, an entity whose property and interests in property are blocked pursuant to E.O. 13884, has an interest.

Dated: January 21, 2020.
Andrea Gacki,
Director, Office of Foreign Assets Control.

[FR Doc. 2020-01349 Filed 1-27-20; 8:45 am]

BILLING CODE 4810-AL-P